DEPARTMENT OF TRANSPORTATION

49 CFR Part 1

[Docket No. OST-1999-6189]

RIN 1991-AA45

Organization and Delegation of Powers and Duties; Office of Intelligence, Security, and Emergency Response

AGENCY: Office of the Secretary of Transportation.

ACTION: Final rule.

SUMMARY: The Secretary of Transportation (Secretary) renames the Office of Intelligence and Security as the Office of Intelligence, Security, and Emergency Response. The Secretary rescinds the currently delegated authority of the Administrator, Research and Special Programs Administration, to perform functions related to emergency preparedness and response vested in the Secretary and delegates the authority to the Director of Intelligence, Security, and Emergency Response in the Office of the Secretary.

DATES: Effective Date: February 4, 2005.

FOR FURTHER INFORMATION CONTACT: David K. Tochen, Deputy Assistant General Counsel, Office of the Assistant General Counsel for Environmental, Civil Rights, and General Law, Department of Transportation, 400 Seventh Street, SW., Room 10102, Washington, DC 20590; Telephone: (202) 366-9153.

SUPPLEMENTARY INFORMATION:

Availability of the Final Rule

An electronic copy of this document may be downloaded by using a computer, modem, and suitable communications software from the Government Printing Office's Electronic Bulletin Boards Service at (202) 512-1661. Internet users may reach the Office of the Federal Register's home page at: http://www.nara.gov/fedreg and the Government Printing Office's database at: http://www.access.gpo.gov. You can also view and download this document by going to the Web page of the Department's Docket Management System (http://dms.dot.gov). On that Web page, click on “search.” On the next page, type in the four-digit docket number shown on the first page of this document. Then click on “search.”

Background

Title 49 of the Code of Federal Regulations (CFR), § 1.53(e), delegates to the Administrator of the Research and Special Programs Administration (RSPA) the authority to carry out functions and activities related to emergency preparedness and response vested in the Secretary by 49 U.S.C. 101 and 301 or delegated to the Secretary by or through the Defense Production Act of 1950, 50 U.S.C. App. 2061 et seq.; Executive Order 12148, as amended; Executive Order 12656, as amended; Executive Order 12742, as amended; Executive Order 12919, as amended; Reorganization Plan No. 3 of 1978; and such other statutes, executive orders, and other directives as may pertain to emergency preparedness and response.

The functions related to emergency preparedness and response are currently performed by the RSPA's Office of Emergency Transportation (OET), subject to coordination with and concurrence by the Director of Intelligence and Security. The OET's mission is to serve as the Departmental emergency coordinator. OET also provides leadership for emergency preparedness and response activities; develops national preparedness and response policies and procedures in coordination with other Federal, state, local, and private sector authorities; operates the Department's Crisis Management Center (CMC); and participates on behalf of the United States in international emergency preparedness and response planning and related activities with the North Atlantic Treaty Organization (NATO) and other Allies.

The Transportation, Treasury, Independent Agencies, and General Government Appropriations Act, 2005, transfers operational responsibility for the OET and the CMC from RSPA to the Office of the Secretary. This authority is being delegated to the Office of Intelligence and Security, which is now being renamed to the Office of Intelligence, Security, and Emergency Response to reflect the inclusion of OET and the CMC. Therefore, this final rule rescinds the current delegation of Secretarial authority to the Administrator, RSPA, in 49 CFR 1.53(e) to carry out the functions and activities currently relating to emergency transportation performed by the OET and gives notice that these functions and activities shall be carried out by the Director of the Office of Intelligence, Security, and Emergency Response.

This rule is being published as a final rule and made effective upon signature by the Secretary. As the rule relates to Departmental management, procedures, and practices, notice and comment on it are unnecessary under 5 U.S.C. 553(b)(3)(A). In addition, the Secretary finds that there is good cause to make this rule effective upon publication pursuant to 5 U.S.C. 553(d)(2), as a change to internal policy.

Regulatory Analyses and Notices

A. Executive Order 12866 and DOT Regulatory Policies and Procedures

The final rule is not considered a significant regulatory action under Executive Order 12866 and the Regulatory Policies and Procedures of the Department of Transportation (44 FR 11034). There are no costs associated with this rule.

B. Executive Order 13132

This action has been analyzed in accordance with the principles and criteria contained in Executive Order 13132, dated August 4, 1999. This final rule does not have a substantial direct effect on, or sufficient federalism implications for, the States, nor would it limit the policymaking discretion of the States. Therefore, the consultation and funding requirements do not apply.

C. Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. I hereby certify this final rule, which amends the CFR to reflect a modification of authority from the Secretary, will not have a significant economic impact on a substantial number of small businesses.

E. Paperwork Reduction Act

This rule contains no information collection requirements under the Paperwork Reduction Act of 1995 (44 U.S.C. 3501-3520).

F. Unfunded Mandates Reform Act

The Department has determined that the requirements of Title II of the Unfunded Mandates Reform Act of 1995 do not apply to this rulemaking.

List of Subjects in 49 CFR Part 1

Authority delegations (Government agencies), Organization and functions (Government agencies).

In consideration of the foregoing, Part 1 of Title 49, Code of Federal Regulations, is amended as follows:

PART 1—[AMENDED]

1. The authority citation for Part 1 is revised to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub L. 107-296, 116 Stat. 2135; Pub. L. 108-447, div. H, 118 Stat. 3199.

2. In § 1.23, revise paragraph (o) to read as follows:

§ 1.23 Spheres of primary responsibility.

* * * * *

(o) Office of Intelligence, Security and Emergency Response. Responsible for intelligence and security matters within the Department of Transportation that affect the safety of the traveling public, and for emergency preparedness and response functions and activities within the Department and operation of the Department's Crisis Management Center.

* * * * *

3. In § 1.53, remove and reserve paragraph (e).

4. Revise § 1.69 to read as follows:

§ 1.69 Delegations to the Director of Intelligence, Security, and Emergency Response.

The Director of Intelligence, Security, and Emergency Response is delegated authority for the following:

(a) Intelligence and Security. Carry out the functions assigned to the Secretary by the Aviation Security Improvement Act of 1990, section 101 (Pub. L. 101-508; November 16, 1990) relating to intelligence and security matters in all modes of transportation.

(b) Emergency preparedness and response. Carry out the functions related to emergency preparedness vested in the Secretary by 49 U.S.C. 101 and 301 or delegated to the Secretary by or through the Defense Production Act of 1950, 50 U.S.C. App. 2061 et seq.; Executive Order 10480, as amended; Executive Order 12148; Executive Order 12656; Executive Order 12742; Executive Order 12919, as amended; Reorganization Plan No. 3 or 1978; and such other statutes, executive orders, and other directives as may pertain to emergency preparedness.

Issued this 4th day of February 2005, at Washington, DC.
Norman Y. Mineta,
Secretary of Transportation.

[FR Doc. 05-2803 Filed 2-14-05; 8:45 am]

BILLING CODE 4910-62-P